ENVIRONMENTAL PROTECTION AGENCY

40 CFR Part 52

[EPA-R02-OAR-2017-0044; FRL-9968-05-Region 2]

Approval of Air Quality Implementation Plans; New Jersey, 2011 Periodic Emission Inventory SIP for the Ozone Nonattainment and PM2.5/Regional Haze Areas

AGENCY: Environmental Protection Agency (EPA).

ACTION: Final rule.

SUMMARY: The Environmental Protection Agency (EPA) is approving a State Implementation Plan (SIP) revision submitted by the New Jersey Department of Environmental Protection. The SIP revision consists of the following: 2011 calendar year ozone precursor emission inventories for volatile organic compounds (VOC), oxides of nitrogen (NOX) and carbon monoxide (CO) for the New York-Northern New Jersey-Long Island area classified as Moderate ozone nonattainment for the 2008 8-hour ozone standard, and the Philadelphia-Wilmington-Atlantic City ozone nonattainment area classified as Marginal ozone nonattainment for the 2008 8-hour ozone standard. In addition, the SIP revision also consists of the 2011 calendar year statewide periodic emissions inventory for particulate matter with an aerodynamic diameter less than or equal to 2.5 microns (PM2.5) and the associated PM2.5 and/or Regional Haze precursors. The pollutants included in this inventory include VOC, NOX, PM2.5, particulate matter with an aerodynamic diameter less than or equal to 10 microns (PM10), ammonia (NH3) and sulfur dioxide (SO2). Emission inventories are needed to develop and assess new control strategies that the states may use in attainment demonstration SIPs for the new National Ambient Air Quality Standards for ozone and PM2.5. The inventory may also serve as part of statewide inventories for purposes of regional modeling in ozone and Regional Haze transport areas. The inventory plays an important role in modeling demonstrations for areas classified as nonattainment for ozone, CO and PM2.5.

DATES: This final rule is effective on October 23, 2017.

ADDRESSES: The EPA has established a docket for this action under Docket ID No. EPA-R02-OAR-2017-0044. All documents in the docket are listed on the www.regulations.gov Web site. Although listed in the index, some information is not publicly available, e.g., CBI or other information whose disclosure is restricted by statute. Certain other material, such as copyrighted material, is not placed on the Internet and will be publicly available only in hard copy form. Publicly available docket materials are available through www.regulations.gov, or please contact the person identified in the FOR FURTHER INFORMATION CONTACT section for additional availability information.

FOR FURTHER INFORMATION CONTACT: Kirk J. Wieber, Air Programs Branch, Environmental Protection Agency, 290 Broadway, 25th Floor, New York, New York 10007-1866, telephone number (212) 637-3381, or by email at wieber.kirk@epa.gov.

SUPPLEMENTARY INFORMATION: The supplementary Information section is arranged as follows:

Table of Contents

I. What action is EPA taking?

II. What comments did EPA receive on its proposal?

III. What is EPA's final action?

IV. Statutory and Executive Order Reviews

I. What action is EPA taking?

The New Jersey emissions inventory SIP revision will ensure that the requirements for emissions inventory measures and reporting are adequately met. To comply with the emissions inventory requirements, New Jersey submitted a complete inventory containing point, area, on-road, and non-road mobile source data, and accompanying documentation. EPA is approving the SIP revision submittal as meeting the essential reporting requirements for emission inventories. EPA has also determined that the SIP revision meets the requirements for emission inventories in accordance with EPA guidance.

Therefore, EPA is approving a revision to the New Jersey SIP which pertains to the following: 2011 calendar year summer season daily and annual ozone precursor emission inventories for VOC, NOX and CO for the New York-Northern New Jersey-Long Island and the Philadelphia-Wilmington-Atlantic ozone nonattainment areas. In addition, the EPA is approving the 2011 calendar year PM2.5/Regional Haze emissions inventory that was developed statewide for New Jersey. The pollutants included in the inventory are annual emissions for VOC, NOX, PM2.5, PM10, NH3 and SO2. The reader is referred to the April 10, 2017 (82 FR 17166) proposal for details on this rulemaking.

II. What comments did EPA receive on its proposal?

EPA did not receive any comments on the April 10, 2017 proposed approval of New Jersey's 2011 emissions inventory.

III. What is EPA's final action?

EPA is approving a revision to the New Jersey SIP which pertains to the following: 2011 calendar year summer season daily and annual ozone precursor emission inventories for VOC, NOX and CO for the New York-Northern New Jersey-Long Island and the Philadelphia-Wilmington-Atlantic City ozone nonattainment areas. In addition, the EPA is approving the 2011 calendar year PM2.5/Regional Haze emissions inventory that was developed statewide for New Jersey. The pollutants included in the inventory are annual emissions for VOC, NOX, PM2.5, PM10, NH3 and SO2.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994). In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 20, 2017. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: September 6, 2017.
Catherine R. McCabe,
Acting Regional Administrator, Region 2.

40 CFR part 52 is amended as follows:

PART 52—APPROVAL AND PROMULGATION OF IMPLEMENTATION PLANS

1. The authority citation for part 52 continues to read as follows:

Authority: 42 U.S.C. 7401 et seq.

Subpart FF—New Jersey

2. Section 52.1570(e), is amended by adding entries for “2011 VOC, NOX and CO ozone summer season and annual emissions inventory” and “2011 PM2.5/Regional Haze and associated precursors annual emissions inventory” at the end of the table to read as follows:

§ 52.1570 Identification of plan.

* * * * *

(e) * * *

EPA-Approved New Jersey Nonregulatory and Quasi-Regulatory Provisions
SIP element | Applicable geographic or nonattainment area | New Jersey submittal date | EPA approval date | Explanation
* * * * * * *
2011 VOC, NOX and CO ozone summer season and annual emissions inventory | New York-Northern New Jersey-Long Island and the Philadelphia-Wilmington-Atlantic City ozone nonattainment areas | June 1, 2015 | 9/21/2017, [Insert Federal Register citation]
2011 PM2.5/Regional Haze and associated precursors annual emissions inventory | State-wide | June 1, 2015 | 9/21/2017, [Insert Federal Register citation]

[FR Doc. 2017-20066 Filed 9-20-17; 8:45 am]

BILLING CODE 6560-50-P